DEPARTMENT OF COMMERCE

Census Bureau

National Advisory Committee

AGENCY: Census Bureau, Department of Commerce.

ACTION: Notice of public virtual meeting; correction.

SUMMARY: The Census Bureau published a notice in the Federal Register of April 7, 2022 giving notice of a virtual meeting of the National Advisory Committee (NAC). The document contained incorrect URL meeting links in the “Addresses” section.

FOR FURTHER INFORMATION CONTACT: Shana Banks, Advisory Committee Branch Chief, Office of Program, Performance and Stakeholder Integration (PPSI), shana.j.banks@census.gov, Department of Commerce, Census Bureau, telephone 301-763-3815. For TTY callers, please use the Federal Relay Service at 1-800-877-8339.

SUPPLEMENTARY INFORMATION:

Correction

In the Federal Register of April 7, 2022, in FR Document Number 2022-07356, on Page 20389, in the first column, correct the ADDRESSES caption to read:

ADDRESSES: The meeting will be held via the WebEx platform at the following presentation links:

• May 5, 2022—

https://uscensus.webex.com/uscensus/onstage/g.php?MTID=e28f8d12408207d3c951d7c7b345a1dd2

• May 6, 2022—

https://uscensus.webex.com/uscensus/onstage/g.php?MTID=e7dfde37dd4b6aa4f376a2758ee48da9c

For audio, please call the following number: 1-888-603-9745. When prompted, please use the following Password: Census#1 and Passcode: 8154908#.

Robert L. Santos, Director, Census Bureau, approved the publication of this Notice in the Federal Register.

Dated: April 8, 2022.
Sheleen Dumas,
Department PRA Clearance Officer, Office of the Chief Information Officer, Commerce Department.

[FR Doc. 2022-07980 Filed 4-13-22; 8:45 am]

BILLING CODE 3510-07-P